JUDICIAL CONFERENCE OF THE UNITED STATES

Meeting of the Judicial Conference Committee on Rules of Practice and Procedure

AGENCY: Judicial Conference of the United States, Committee on Rules of Practice and Procedure.

ACTION: Relocation of open meeting.

SUMMARY: The location of the two-day meeting of the Committee on Rules of Practice and Procedure has been changed from Washington, DC to San Francisco, California. The meeting will be open to public observation but not participation. [Original notice of the meeting appeared in the Federal Register of March 7, 2007.]

DATES: June 11-12, 2007.

Time: 8:30 a.m. to 5 p.m.

ADDRESSES: Le Meridien San Francisco, Mercantile Room, 333 Battery Street, San Francisco, CA.

FOR FURTHER INFORMATION CONTACT: John K. Rabiej, Chief, Rules Committee Support Office, Administrative Office of the United States Courts, Washington, DC 20544, telephone (202) 502-1820.

Dated: May 9, 2007.
John K. Rabiej,
Chief, Rules Committee Support Office.

[FR Doc. 07-2381 Filed 5-14-07; 8:45 am]

BILLING CODE 2210-55-M